DEPARTMENT OF JUSTICE

Antitrust Division

Notice Pursuant to the National Cooperative Research and Production Act of 1993—Out of Home Video Advertising Bureau, Inc.

Notice is hereby given that, on June 6, 2008, pursuant to Section 6(a) of the National Cooperative Research and Production Act of 1993, 15 U.S.C. 4301 et seq. (“the Act”), Out of Home Video Advertising Bureau, Inc. (“OVAB”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to Section 6(b) of the Act, the name and principal place of business of the standards development organization is: Out of Home Video Advertising Bureau, Inc., New York, NY. The nature and scope of OVAB's standards development activities are: to develop and promote the adoption of out of home video advertising networks through education of marketing executives and their agency representatives and to raise awareness of these networks. The OVAB's mission is to develop pro-competitive industry guidelines to make it easier for media planning and buying agencies to plan, buy, and evaluate the effectiveness of advertising on out of home video networks. The OVAB is currently developing the Audience Metrics Guidelines, which seek to provide the basis for a comparable set of audience metrics produced by a variety of quality methods, each well suited to a specific venue and its network. The OVAB's voluntary consensus standards are developed by OVAB members and other interested parties who wish to participate in the OVAB's standards and development process.

Patricia A. Brink,
Deputy Director of Operations, Antitrust Division.

[FR Doc. E8-15669 Filed 7-15-08; 8:45 am]

BILLING CODE 4410-11-M